NATIONAL CAPITAL PLANNING COMMISSION

Notice of Public Comment Period and Public Meetings on the Federal Workplace Element of the Comprehensive Plan for the National Capital

AGENCY: National Capital Planning Commission.

ACTION: Notice of 60-day public comment period and public meetings.

SUMMARY: The National Capital Planning Commission (NCPC) has released a draft of the Federal Workplace Element of the Comprehensive Plan for the National Capital: Federal Elements for public review. The element establishes policies to emphasize Washington as the seat of the federal government; efficiently plan and locate federal workplaces so they contribute to the National Capital Region's economic well-being; promote resource protection; and provide sustainable and healthy work environments for its workforce. The draft is available online for review at https://www.ncpc.gov/initiatives/workplace.

DATES: The public comment period closes September 16, 2019.

Public Meetings: NCPC will host two open house events for the public to learn more about the Element. The first open house will be on August 6, 2019 from 6:00 p.m. to 7:30 p.m. The second open house will be August 7, 2019 from 10:30 a.m. to 12:00 p.m. The meetings will be held at NCPC (same address as that to which written comments may be addressed below).

ADDRESSES: Written public comments on the draft may be submitted by either method:

1. U.S. mail, courier, or hand deliver: Federal Workplace Public Comment, National Capital Planning Commission, 401 9th Street NW, Suite 500N, Washington, DC 20004.

2. Electronically: https://www.ncpc.gov/initiatives/workplace.

FOR FURTHER INFORMATION CONTACT: Angela Dupont at (202) 482-7232 or info@ncpc.gov.

Authority: 40 U.S.C. 8721(e)(2).

Dated: July 12, 2019.
Anne R. Schuyler,
General Counsel.

[FR Doc. 2019-15172 Filed 7-16-19; 8:45 am]

BILLING CODE 7502-02-P